DEPARTMENT OF AGRICULTURE

Forest Service

Colville Resource Advisory Committee (RAC); Meeting

AGENCY: Forest Service, USDA.

ACTION: Notice of meeting.

SUMMARY: The Colville Resource Advisory Council will meet on Thursday, March 21, 2002 at the Spokane Community College, Colville Campus Room 107 at 985 S. Elm Street, Colville, Washington. The meeting will begin at 9 a.m. and conclude at 4 p.m.

Agenda items include: (1) Review, modify and approve minutes from February meeting; (2) review and recommend Title II Projects to be submitted to the forest designated official; (3) review and approve the RAC Communication Plan; and (4) develop agenda for next meeting.

FOR FURTHER INFORMATION CONTACT: Direct questions regarding this meeting to designated federal official, Nora Rasure or Cynthia Reichelt, Public Affairs Officer, Colville National Forest, 765 S. Main, Colville, Washington 99114, (509) 684-7000.

Dated: March 1, 2002.
Nora B. Rasure,
Forrest Supervisor.

[FR Doc. 02-5700 Filed 3-8-02; 8:45 am]

BILLING CODE 3410-11-M